DEPARTMENT OF HEALTH AND HUMAN SERVICES

Centers for Disease Control and Prevention

Interagency Task Force on Antimicrobial Resistance (ITFAR) Public Meeting Cancellation

AGENCY: Centers for Disease Control and Prevention (CDC), Department of Health and Human Services (HHS).

ACTION: Cancellation of public meeting.

SUMMARY: The meeting of the Interagency Task Force on Antimicrobial Resistance (ITFAR) is cancelled. The purpose of the meeting was to communicate the strategic direction of ITFAR in the fight against antimicrobial resistance, centering on current work and future direction in this area. This meeting will be rescheduled at a future date.

DATES: The public meeting cancelled by this notice was to be held at the Ronald Reagan Building and International Trade Center in Washington, DC, on Thursday, September 4, 2014, from 1:00 p.m. to 5:00 p.m.

FOR FURTHER INFORMATION CONTACT: Stephanie Gumbis, Office of Antimicrobial Resistance, National Center for Emerging and Zoonotic Infectious Diseases, Centers for Disease Control and Prevention, 1600 Clifton Road NE., Mailstop A-28, Atlanta, GA 30329; Telephone 404-639-4000; Email ITFAR@cdc.gov.

Dated: August 22, 2014.
Ron A. Otten,
Acting Deputy Associate Director for Science, Centers for Disease Control and Prevention.

[FR Doc. 2014-20393 Filed 8-26-14; 8:45 am]

BILLING CODE 4163-18-P